DEPARTMENT OF ENERGY

Federal Energy Regulatory Commission

Combined Notice of Filings

Take notice that the Commission has received the following Natural Gas Pipeline Rate and Refund Report filings:

Filings Instituting Proceedings

Docket Numbers: RP26-360-000.

Applicants: Tennessee Gas Pipeline Company, L.L.C.

Description: § 4(d) Rate Filing: Negotiated Rate Agreements—Shell Energy North to be effective 11/1/2025.

Filed Date: 1/7/26.

Accession Number: 20260107-5114.

Comment Date: 5 p.m. ET 1/20/26.

Docket Numbers: RP26-361-000.

Applicants: Northern Natural Gas Company.

Description: § 4(d) Rate Filing: 20260107 Negotiated Rate Filing to be effective 1/8/2026.

Filed Date: 1/7/26.

Accession Number: 20260107-5126.

Comment Date: 5 p.m. ET 1/20/26.

Docket Numbers: RP26-362-000.

Applicants: Iroquois Gas Transmission System, L.P.

Description: § 4(d) Rate Filing: 1.8.26 Negotiated Rates—DTE Energy Trading, Inc. H-1830-89 to be effective 1/9/2026.

Filed Date: 1/8/26.

Accession Number: 20260108-5058.

Comment Date: 5 p.m. ET 1/20/26.

Docket Numbers: RP26-363-000.

Applicants: Iroquois Gas Transmission System, L.P.

Description: § 4(d) Rate Filing: 1.8.26 Negotiated Rates—Emera Energy Services, Inc. H-2715-89 to be effective 1/9/2026.

Filed Date: 1/8/26.

Accession Number: 20260108-5060.

Comment Date: 5 p.m. ET 1/20/26.

Docket Numbers: RP26-364-000.

Applicants: Iroquois Gas Transmission System, L.P.

Description: § 4(d) Rate Filing: 1.8.26 Negotiated Rates—J. Aron & Company LLC H-7130-89 to be effective 1/9/2026.

Filed Date: 1/8/26.

Accession Number: 20260108-5063.

Comment Date: 5 p.m. ET 1/20/26.

Docket Numbers: RP26-365-000.

Applicants: Iroquois Gas Transmission System, L.P.

Description: § 4(d) Rate Filing: 1.8.26 Negotiated Rates—Mercuria Energy America, LLC H-7540-89 to be effective 1/9/2026.

Filed Date: 1/8/26.

Accession Number: 20260108-5067.

Comment Date: 5 p.m. ET 1/20/26.

Docket Numbers: RP26-366-000.

Applicants: Iroquois Gas Transmission System, L.P.

Description: § 4(d) Rate Filing: 1.8.26 Negotiated Rates—United Energy Trading, LLC H-5095-89 to be effective 1/9/2026.

Filed Date: 1/8/26.

Accession Number: 20260108-5072.

Comment Date: 5 p.m. ET 1/20/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 8, 2026.
Carlos D. Clay,
Deputy Secretary.

[FR Doc. 2026-00471 Filed 1-12-26; 8:45 am]

BILLING CODE 6717-01-P